DEPARTMENT OF DEFENSE

Department of the Army; Corps of Engineers

Notice of Intent To Adopt a Final Environmental Impact Statement

AGENCY: U.S. Army Corps of Engineers, DOD.

ACTION: Notice.

SUMMARY: The Army Corps of Engineers, Los Angeles District (Corps), has reviewed the Final Environmental Impact Statement (FEIS) prepared by the U.S. Department of Transportation, Federal Highway Administration (FHWA), dated July 2004, for the proposed “Route Location, Adoption, and Construction of State Route 905 Between the Otay Mesa Port of Entry and Interstate 805 in the County of San Diego, California.” The Corps intends to adopt the FEIS for purposes of compliance with the National Environmental Policy Act (NEPA). This notice only solicits comments on the Corps' intent to adopt the FEIS.

DATES: Written comments must be received by March 14, 2006.

ADDRESSES: U.S. Army Corps of Engineers, ATTN: CESPL-CO-R, San Diego Regulatory Field Office, 168885 West Bernardo Drive, Suite 300A, San Diego, California 92127. Comments may also be submitted, via electronic mail, to: terrence.dean@usace.army.mil.

FOR FURTHER INFORMATION CONTACT: Mr. Terry Dean, San Diego Regulatory Field Office, at (858) 674-5386.

SUPPLEMENTARY INFORMATION: The proposed project is to construct State Route 905 from Interstate 805 (I-805) to the Otay Mesa Port of Entry (POE) with Mexico, a distance of approximately 10 kilometers (6.2 miles). Each of the proposed alternatives would include six travel lanes (three in each direction) and each would have a wide median for possible, future high occupancy vehicle (HOV) lanes. Local interchanges would be constructed at Caliente Avenue, Heritage Road, Heritage Road, Britannia Boulevard, and La Media Road, as would a freeway-to-freeway interchange at State Route 125. The project purpose is to provide for effective transportation of people, goods, and services between I-805 and the Otay Mesa POE. Project objectives include alleviating existing traffic congestion, improving safety on Otay Mesa Road, providing adequate transportation facilities for the associated growth from planned and approved developments, and completing a major transportation corridor between Interstate 5 and the POE. Alternatives assessed in the FEIS issued by FHWA include: A no-build alternative and six build alternatives. The Freeway-Central Alignment Alternative has been identified as the Preferred Alternative and the Least Environmentally Damaging Practicable Alternative (LEDPA).

On August 10, 2005, the Caltrans submitted an application for a Department of the Army permit under section 404 of the Clean Water Act (CWA) to discharge fill material into 7.68 acres of jurisdictional waters of the United States to construct State Route 905 as a six-lane controlled access highway from I-805 to the Otay Mesa POE with Mexico in San Diego County, California. The project includes: (1) Constructing local interchanges at Caliente Avenue, Heritage Road, Britannia Boulevard, La Media Road, (2) a freeway-to-freeway interchange at State Route 125, and (3) constructing a bridge structure at Spring Canyon.

A Notice of Intent to prepare an EIS was published by FHWA in the Federal Register on March 30, 1995. Prior to the development of the draft EIS (DEIS), several scoping meetings were held by the FHWA/California Department of Transportation (Caltrans) to identify local issues and areas of concern. On July 27, 2001, the DEIS was filed with the U.S Environmental Protection Agency (EPA). The DEIS was circulated for public review from August 13, 2001 to October 16, 2001. During the public review period, a public hearing was held by FHWA/Caltrans on September 20, 2001. The FEIS was signed by the FHWA on July 23, 2004, and distributed to the public. On September 24, 2004, the FHWA signed the Record of Decision.

The Corps' regulations at 33 CFR parts 320-331 requires compliance with the NEPA, the EPA's CWA section 404(b)(1) Guidelines, and a public interest evaluation. Accordingly, for purposes of the Corps' compliance with the NEPA and to prevent duplication of effort, the Corps intends to adopt the FEIS issued by the FHWA. This notice solicits comments on the Corps' intent to adopt the FEIS only.

However, we have determined further analysis is necessary to document compliance with our public interest requirements and the CWA 404(b)(1) Guidelines. We initially distributed a notice to the public of the receipt of a permit application by the Caltrans and to solicit comments on the proposed project. This initial notice solicited comments from August 17 to September 18, 2005. As a result of our election to adopt the FEIS, we will be distributing a second notice to the public seeking comments on the proposed project as analyzed in the FEIS. An Environmental Assessment will be prepared to address the additional analysis and comments received in response to both public notices.

Comments concerning the Caltrans' proposed project must be provided in response to the Los Angeles District Second Public Notice, which we anticipate, will be circulated on February 21, 2006. The public notice can be obtained by submitting a written request to Mr. Terry Dean at the address or e-mail above or by accessing our Internet Web page at http://www.spl.usace.army.mil/regulatory.

Mark R. Blackburn,
Lieutenant Colonel, U.S. Army, Acting District Engineer.

[FR Doc. E6-3045 Filed 3-2-06; 8:45 am]

BILLING CODE 3710-92-P